INTERNATIONAL TRADE COMMISSION

[Investigation No. 332-429]

Wheat Trading Practices: Competitive Conditions Between U.S. and Canadian Wheat

AGENCY: United States International Trade Commission (ITC).

ACTION: Initiation of investigation and notice of hearing.

EFFECTIVE DATE: April 12, 2001.

SUMMARY: Following receipt of a request on April 2, 2001, from the United States Trade Representative (USTR), under section 332(g) of the Tariff Act of 1930, the Commission instituted investigation No. 332-429, Wheat Trading Practices: Competitive Conditions Between U.S. and Canadian Wheat.

FOR FURTHER INFORMATION CONTACT: For general information, contact John Reeder (202-205-3319; reeder@usitc.gov), or Roger Corey (202-205-3327; corey@usitc.gov), Agriculture and Forest Products Division, Office of Industries. For information on legal aspects, contact William Gearhart (202-205-3091; wgearhart@usitc.gov), Office of the General Counsel, U.S. International Trade Commission. Hearing impaired persons can obtain information on these studies by contacting the Commission's TDD terminal on (202) 205-1810. General information concerning the Commission may also be obtained by accessing its internet server (http://www.usitc.gov).

Background: As requested by the USTR, the Commission will provide the following information in its report to the extent possible:

• A summary of a survey of U.S. Hard Red Spring wheat and Durum wheat purchasers, including wheat millers, as to the conditions of competition between U.S. and Canadian wheat during the 5 most recent years, including such data as quantity and prices, technical considerations in the purchase and sale of U.S. versus Canadian wheat, and other relevant factors of competition;

• A summary of a survey of U.S. Hard Red Spring wheat and Durum wheat exporters as to conditions of competition in key foreign markets in Latin America, the Philippines and other significant markets, between U.S. and Canadian wheat during the 5 most recent years, providing such data as quantity and prices, lost sales of U.S. wheat versus Canadian wheat, technical considerations in the purchase and sale of U.S. versus Canadian wheat, and other relevant factors of competition; and

• A summary of the current conditions of wheat trade between the United States and Canada, including relevant information on prices, exchange rates, transportation, marketing practices, U.S. and Canadian farm policies, and other significant economic factors that might be relevant.

The Commission plans to submit the confidential report to USTR by September 24, 2001, as requested. The letter stated that the Office of the USTR in October 2000 initiated an investigation under section 301 of the Trade Act of 1974 concerning the acts, policies, and practices of the Canadian Wheat Board (CWB) and the Government of Canada, and that in the course of that investigation representatives of the U.S. wheat industry alleged a number of potentially trade distorting practices, including CWB standing offers to undersell irrespective of market conditions in Canada, the United States and third markets, and a CWB practice of regularly supplying protein levels that are higher than the levels specified in the sales contracts.

Public Hearing: A public hearing in connection with the investigation will be held at the U.S. International Trade Commission Building, 500 E Street SW., Washington, DC, beginning at 9:30 a.m. on June 6, 2001. All persons shall have the right to appear, by counsel or in person, to present information and to be heard. Requests to appear at the public hearing should be filed with the Secretary, United States International Trade Commission, 500 E Street SW., Washington, DC 20436, no later than 5:15 p.m., May 23, 2001. All prehearing briefs (original and 14 copies) should be filed not later than 5:15 p.m., May 25, 2001; the deadline for filing post-hearing briefs or statement is 5:15 p.m., June 18, 2001. In the event that, as of the close of business on May 24, 2001, no witnesses are scheduled to appear at the hearing, the hearing will be canceled. Any person interested in attending the hearing as an observer or non-participant may call the Secretary of the Commission (202-205-1806) after May 24, 2001, to determine whether the hearing will be held.

Written Submissions: Commercial or financial information that a person desires the Commission to treat as confidential must be submitted on separate sheets of paper, each clearly marked “Confidential Business Information” at the top. All written submissions must conform with the provisions of section 201.8 of the Commission's Rules of Practice and Procedure (19 CFR 201.8). All submissions requesting confidential treatment must conform with the requirements of section 201.6 of the Commission's Rules (19 CFR 201.6) All written submissions, except for confidential business information, will be made available for inspection by interested persons in the Office of the Secretary to the Commission. To be assured of consideration, written statements relating to the Commission's report should be submitted at the earliest possible date and should be received not later than June 18, 2001. All submissions should be addressed to the Secretary, United States International Trade Commission, 500 E Street SW., Washington, DC 20436. The Commission's rules do not authorize filing submissions with the Secretary by facsimile or electronic means. Persons with mobility impairments who will need special assistance in gaining access to the Commission should contact the Office of the Secretary at 202-205-2000.

List of Subjects: Wheat, imports, exports, wheat trading practices, Canadian Wheat Board, Durum wheat, Hard Red Spring wheat.

Issued: April 13, 2001.
By order of the Commission.
Donna R. Koehnke,
Secretary.

[FR Doc. 01-9617 Filed 4-17-01; 8:45 am]

BILLING CODE 7020-02-M